Proclamation 8798 of April 9, 2012

Pan American Day and Pan American Week, 2012

By the President of the United States of America

A Proclamation

In April of 1890, delegates from countries throughout the Americas gathered in Washington, D.C., united in the belief that cooperation would lead to a more peaceful, secure, and prosperous hemisphere. Demonstrating remarkable foresight and a commitment to progress, they came together to forge a community of nations that would one day become the Organization of American States—a body dedicated to the pursuit of democracy and economic opportunity for all our people. During Pan American Day and Pan American Week, we celebrate this legacy of international partnership and renew the bonds of friendship and shared responsibility that join us in common purpose.

The United States is proud to be part of the inter-American community. From the shores of Canada to the cliffs of Cape Horn, our hopes are bound together—to create greater social and economic opportunity for all, to ensure safety for our citizens, to build strong and accountable democratic institutions, to secure a clean energy future. Our Nation remains committed to working together with partners across our hemisphere to achieve these goals.

Last October, I was proud to sign legislation to implement Free Trade Agreements with Panama and Colombia that will support American jobs, open new markets to our exports, and spur growth here at home and throughout the region. These Agreements strengthen our partnerships, and they reflect our commitment to supporting democracy and economic opportunity throughout the Americas. We are also working to fuel education and innovation across our hemisphere. One year ago, we announced the 100,000 Strong in the Americas initiative to encourage more of our students to study abroad in Latin America and more Latin American students to study here in the United States, fostering lifelong connections between our nations that will be keys to progress. And as we move forward, we continue to support strong democracies and democratic institutions that promote transparency in government, respect the rule of law, ensure a robust civil society, respect human rights, and deliver public services in effective and equitable ways.

This week, we gather in Cartagena, Colombia, for the Sixth Summit of the Americas. As 34 Heads of State and Government come together to chart a path toward tomorrow’s horizons, let us recall that though we are stewards of unique and varied histories, our nations are partners in progress. During Pan American Day and Pan American Week, we celebrate our shared heritage, reflect on the gains we have made, and recommit to advancing the common prosperity and security of all our people.

NOW, THEREFORE, I, BARACK OBAMA, President of the United States of America, by virtue of the authority vested in me by the Constitution and the laws of the United States, do hereby proclaim April 14, 2012, as Pan American Day and April 8 through April 14, 2012, as Pan American Week. I urge the governors of the 50 States, the governor of the Commonwealth of Puerto Rico, and the officials of the other areas under the flag of the United States of America to honor these observances with appropriate ceremonies and activities.

IN WITNESS WHEREOF, I have hereunto set my hand this ninth day of April, in the year of our Lord two thousand twelve, and of the Independence of the United States of America the two hundred and thirty-sixth.

[FR Doc. 2012-9018

Filed 4-11-12; 11:15 am]

Billing code 3295-F2-P